DEPARTMENT OF COMMERCE

National Oceanic and Atmospheric Administration

RIN 0648-XD006

New England Fishery Management Council; Public Meeting

AGENCY: National Marine Fisheries Service (NMFS), National Oceanic and Atmospheric Administration (NOAA), Commerce.

ACTION: Notice of public meeting.

SUMMARY: The New England Fishery Management Council (Council) will hold a 3-day meeting to consider actions affecting New England fisheries in the exclusive economic zone (EEZ).

DATES: The meeting will be held on Monday, December 16 through Wednesday, December 18, 2013. The meeting will begin at 10 a.m. on Monday, December 16th and at 8:30 a.m. on Tuesday, December 17th and Wednesday, December 18th.

ADDRESSES: The meeting will be held at the DoubleTree by Hilton Hotel, 50 Ferncroft Road, Danvers, MA 01923; telephone: (978) 777-2500 or online at doubletree3.hilton.com/en/hotels/massachusetts/doubletree-by-hilton-hotel-boston-north-shore-BOSNSDT/index.html.

Council address: New England Fishery Management Council, 50 Water Street, Mill 2, Newburyport, MA 01950; telephone: (978) 465-0492.

FOR FURTHER INFORMATION CONTACT: Thomas A. Nies, Executive Director, New England Fishery Management Council, (978) 465-0492.

SUPPLEMENTARY INFORMATION:

Monday, December 16, 2013

The Council will begin the first day of this meeting with introductions by the Chairman, followed by an open public comment period during which any interested party may provide brief remarks on issues relevant to Council business but not listed on the meeting agenda. The Council will then discuss and approve NEFMC management priorities for 2014. The herring fishery management priorities approved at the November 2013 Council meeting will not be addressed at the December meeting. After a lunch break, the Scientific and Statistical Committee (SSC) will report an on overfishing limit and acceptable biological catch recommendations for sea scallops for fishing years 2014-15. The report also will include the SSC's review of an OFL and ABC for Gulf of Maine haddock for fishing years 2013-15. The Scallop Committee will update the Council about several modified alternatives in Framework Adjustment 25 to the Sea Scallop Fishery Management Plan (FMP). Before adjournment for the day a Northeast Fisheries Science Center representative will provide an overview of the National Standard 2 final rule.

Tuesday, December 17, 2013

The NEFMC's Groundfish Oversight Committee will present final measures to be approved at this meeting for inclusion in Framework Adjustment 51 to the Northeast Multispecies (Groundfish) FMP. These will address but are not limited to the 2014-16 overfishing level (OFL), acceptable biological catch (ABC) and annual catch level (ACL) for white hake, the 2014-15 OFL, ABC and ACL for Georges Bank yellowtail flounder, ACLs for Eastern Georges Bank haddock and Eastern Georges Bank cod, revisions to the Gulf of Maine cod and American plaice rebuilding plans, and small-mesh accountability measures (AMs) for the Georges Bank yellowtail flounder sub-ACL. Other provisions will address in-season adjustments to the U.S./Canada quotas, including the distribution of the haddock quota in the Eastern and Western U.S./Canada areas. The Council also will consider a prohibition on yellowtail flounder by limited access scallop fishery vessels, and possibly other adjustments to the groundfish management measures. Issues related to this fishery will be addressed until adjournment at the end of the afternoon on Tuesday.

Wednesday, December 18, 2013

During the final day of the Council meeting, members will review the Habitat Omnibus Amendment 2 Draft Environmental Impact Statement and identify preferred alternatives. The day will end with consideration of any other outstanding business that may have been deferred until the end of the meeting.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: November 25, 2013.
Tracey L. Thompson,
Acting Deputy Director, Office of Sustainable Fisheries, National Marine Fisheries Service.

[FR Doc. 2013-28707 Filed 11-27-13; 8:45 am]

BILLING CODE 3510-22-P